DEPARTMENT OF TRANSPORTATION

Federal Aviation Administration

Notice of Intent To Request Revision From the Office of Management and Budget of a Currently Approved Information Collection Activity, Request for Comments; Certification and Operation FAR 125

AGENCY: Federal Aviation Administration (FAA), DOT.

ACTION: Notice and request for comments.

SUMMARY: The FAA invites public comments about our intention to request the Office of Management and Budget (OMB) to approve a current information collection. 14 CFR Part 125 prescribes requirements for leased aircraft, Aviation Service Firms, and Air Travel Clubs.

DATES: Please submit comments by May 22, 2007.

FOR FURTHER INFORMATION CONTACT: Carla Mauney on (202) 267-9895, or by e-mail at: Carla.Mauney@faa.gov.

SUPPLEMENTARY INFORMATION:

Federal Aviation Administration (FAA)

Title: Certification and Operation FAR 125.

Type of Request: Revision of an approved collection.

OMB Control Number: 2120-0085.

Form(s): There are no FAA forms associated with this collection.

Affected Public: A total of 163 Respondents.

Frequency: The information is collected on occasion.

Estimated Average Burden per Response: Approximately 1.33 hours per response.

Estimated Annual Burden Hours: An estimated 61,388 hours annually.

Abstract: Part A of Subtitle VII of the Revised Title 49 United States Code authorizes the issuance of regulations governing the use of navigable airspace. 14 CFR part 125 prescribes requirements for leased aircraft, Aviation Service Firms, and Air Travel Clubs. Information shows compliance and the applicant's eligibility.

ADDRESSES: Send comments to the FAA at the following address: Ms. Carla Mauney, Room 712, Federal Aviation Administration, Strategy and Investment Analysis Division, AIO-20, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on March 19, 2007.
Carla Mauney,
FAA Information Collection Clearance Officer, Strategy and Investment Analysis Division, AIO-20.

[FR Doc. 07-1441 Filed 3-22-07; 8:45 am]

BILLING CODE 4910-13-M